DEPARTMENT OF THE INTERIOR

Minerals Management Service

30 CFR Part 219

[Docket ID: MMS-2007-OMM-0067]

RIN 1010-AD46

Allocation and Disbursement of Royalties, Rentals, and Bonuses—Oil and Gas, Offshore

AGENCY: Minerals Management Service (MMS), Interior.

ACTION: Extension of comment period for a proposed rule.

SUMMARY: The Minerals Management Service hereby gives notice that it is extending the public comment period on a proposed rule, which was published in the Federal Register on May 27, 2008, with public comments due by July 28, 2008. The proposed rule would amend the regulations on distribution and disbursement of royalties, rentals, and bonuses to include the allocation and disbursement of revenues from certain leases on the Gulf of Mexico Outer Continental Shelf in accordance with the provisions of the Gulf of Mexico Energy Security Act of 2006. (73 FR 30331, May 27, 2008).

DATES: Written comments must be received by the extended due date of August 11, 2008. The MMS may not fully consider comments received after this date.

ADDRESSES: You may submit comments on the rulemaking by any of the following methods. Please use the Regulation Identifier Number (RIN) 1010-AD46 as an identifier in your message. See also Public Availability of Comments under Procedural Matters.

• Federal eRulemaking Portal: http://www.regulations.gov. Under the tab “More Search Options,” click Advanced Docket Search, then select “Minerals Management Service” from the agency drop-down menu, then click “submit.” In the Docket ID column, select MMS-2007-OMM-0067 to submit public comments and to view supporting and related materials available for this rulemaking. Information on using Regulations.gov, including instructions for accessing documents, submitting comments, and viewing the docket after the close of the comment period, is available through the site's “User Tips” link. The MMS will post all comments to the docket.

• Mail or hand-carry comments to the Department of the Interior; Minerals Management Service; Attention: Regulations and Standards Branch (RSB); 381 Elden Street, MS-4024, Herndon, Virginia 20170-4817. Please reference “Allocation and Disbursement of Royalties, Rentals, and Bonuses—Oil and Gas, Offshore, 1010-AD46” in your comments and include your name and return address.

FOR FURTHER INFORMATION CONTACT: Marshall Rose, Chief, Economics Division, Offshore Energy and Minerals Management at (703) 787-1538.

SUPPLEMENTARY INFORMATION: MMS has extended the deadline by two weeks for submitting comments on the proposed rule in order to give the public additional time to comment on its many new provisions.

Dated: July 23, 2008.
Walter D. Cruickshank,
Acting Director, Minerals Management Service.

[FR Doc. E8-17247 Filed 7-25-08; 8:45 am]

BILLING CODE 4310-MR-P